DEPARTMENT OF THE INTERIOR

Bureau of Land Management

Notice of availability of the Draft Lookout Mountain Forest and Rangeland Health Project Plan, Associated Amendments to the Baker Resource Management Plan and Draft Environmental Impact Statement

AGENCY: Baker Resource Area, Vale District, Bureau of Land Management.

ACTION: Notice of availability of the Draft Lookout Mountain Forest and Rangeland Health Project Plan, Associated Amendments to the Baker Resource Management Plan (RMP) and Draft Environmental Impact Statement (DEIS).

SUMMARY: The Baker Resource Area is providing the Lookout Mountain Forest and Rangeland Health Project DEIS for public review and comment. The planning area encompasses approximately 25,160 acres of public land managed by the Baker Resource Area, Vale District and located in Baker county in northeastern Oregon. Some of the alternatives include amendments to portions of the Baker RMP, which was originally approved in 1989. The Bureau of Land Management (BLM) has and will continue to work closely with all interested parties to identify the management decisions that are best suited to the needs of the public. For comments to be most helpful, they should relate to specific concerns or conflicts that are within the legal responsibilities of the BLM and they should be able to be resolved in this planning process. Specific comments are the most useful in helping us improve the analysis and in the development of the preferred alternative. In addition to public comments, the BLM is particularly interested in state, local and Tribal government comments regarding plan consistency. Documents referenced in this DEIS may be examined at the Baker Resource Area Office during normal working hours. The Baker RMP to which the DEIS is tiered also is available for review at the Vale District and Oregon State Offices during normal working hours, and on the internet at http://www.or.blm.gov/Vale/Planning-EnvirnAnalyses.htm.

DATES: The comment period will end 90 days after the publication of the Environmental Protection Agency's Notice of Availability of the DEIS in the Federal Register. Supplemental notices indicating the precise dates of DEIS availability and the comment period will be printed in local newspapers and sent to mailing list addressees. Comments must be received on or before the end of the comment period at the address listed below. No public meetings, open houses, or field tours of the project area have been scheduled at this time. If there is sufficient public interest, public meetings will be arranged to discuss the management alternatives and answer questions. At least 15 days public notice will be given for activities where the public is invited to attend. All meetings will be published on the Vale District Web site http://www.or.blm.gov/Vale/Planning-EnvirnAnalyses.htm and in the Baker City Herald and Argus-Observer (Ontario) newspapers. Comments, including names and addresses of commentors, will be available for public review. Individual respondents may request confidentiality. If you wish to withhold your name and/or address from public review or from disclosure under the Freedom of Information Act, you must state this prominently at the beginning of your written comment. Such requests will be honored to the extent allowed by law. All submissions from organizations or businesses and from individuals identifying themselves as representatives or officials of organizations or businesses, will be made available for public inspection in their entirety.

ADDRESSES: The responsible field official is Penelope Dunn Woods, Baker Resource Area Manager. Written comments should be sent to Ted Davis, Supervisory Natural Resource Specialist, Baker Resource Area, Bureau of Land Management, 3165 10th St., Baker City, Oregon 97814. Planning records are available at this address for inspection during normal working hours. Requests for copies of the draft plan can also be made by telephone to Ted Davis at (541) 523-1431.

SUPPLEMENTARY INFORMATION: The DEIS contains descriptions and analyses of five action alternatives, and a no-action alternative, each developed with differing emphasis. The range of management direction includes commercial and precommercial timber harvest, riparian restoration activities, road relocation and decommissionings, fuel hazard reduction treatments including prescribed burning, and other land management direction. The portions of the Baker Resource Management Plan that would be most affected and amended by the action alternatives involve visual resource management and alternative road access. The action alternatives would support the National Fire Policy. There are no identified substantive adverse effects on energy resources or transmission. Public comments were considered in developing and analyzing issues and alternatives, along with input from local and Tribal governments, known interest groups, and data developed by BLM staff. The alternatives were designed to address, in different ways, the land and resource management issues identified in the early stages of the planning process. There were no requests for formal cooperator status by other federal, state, local or Tribal governments.

Authority: Federal Land Policy and Management Act (FLPMA) and the National Environmental Policy Act (NEPA).

Dated: May 29, 2002.
Penelope Dunn Woods,
Field Manager, Baker Resource Area.

[FR Doc. 02-26934 Filed 10-22-02; 8:45 am]

BILLING CODE 4310-AG-P